DEPARTMENT OF COMMERCE

National Oceanic and Atmospheric Administration

RIN: 0648-XX50

Fisheries of the South Atlantic; Southeast Data, Assessment, and Review (SEDAR); South Atlantic red snapper.

AGENCY: National Marine Fisheries Service (NMFS), National Oceanic and Atmospheric Administration (NOAA), Commerce.

ACTION: Notice of SEDAR 24 Assessment Webinars 3 & 4 and Review Workshop for South Atlantic red snapper.

SUMMARY: The SEDAR assessment of the South Atlantic stock of red snapper will consist of a series of workshops and webinars: a Data Workshop, a series of Assessment webinars, and a Review Workshop. This is the twenty-fourth SEDAR. This is notice of the Assessment Webinar and Review Workshop components of SEDAR 24. See SUPPLEMENTARY INFORMATION.

DATES: Assessment Webinar 3 will take place August 13, 2010. Assessment Webinar 4 will take place August 24, 2010. The Review Workshop will take place October 12-14, 2010. See SUPPLEMENTARY INFORMATION.

ADDRESSES: The Assessment Webinars will be held live online via an internet based conferencing service. The Webinars may be attended by the public. Those interested in participating should contact Kari Fenske at SEDAR. See FOR FURTHER INFORMATION CONTACT to request an invitation providing webinar access information.

The Review Workshop will be held at the Hilton DeSoto, 15 East Liberty St., Savannah, GA 31401; telephone: (912)232-9000.

FOR FURTHER INFORMATION CONTACT: Kari Fenske, SEDAR Coordinator, 4055 Faber Place Drive, Suite 201, North Charleston, SC 29405; telephone: (843) 571-4366; e-mail: kari.fenske@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes a Data Workshop, a Stock Assessment Process and a Review Workshop. The product of the Data Workshop is a data report which compiles and evaluates potential datasets and recommends which datasets are appropriate for assessment analyses. The product of the Stock Assessment Process is a stock assessment report which describes the fisheries, evaluates the status of the stock, estimates biological benchmarks, projects future population conditions, and recommends research and monitoring needs. The assessment is independently peer reviewed at the Review Workshop. The product of the Review Workshop is a Peer Review Evaluation Report documenting Panel opinions regarding the strengths and weaknesses of the stock assessment and input data. Participants for SEDAR Workshops and Assessment Process are appointed by the Gulf of Mexico, South Atlantic, and Caribbean Fishery Management Councils; the Atlantic and Gulf States Marine Fisheries Commissions; and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 24 Assessment Webinar 3 Schedule:

August 13, 2010: 11 a.m. - 3 p.m.

Assessment panelists will: (1) discuss red snapper model exploratory runs (sensitivities), (2) select a preferred model, (3) review final model runs, results, (4) provide guidance on model projections, (5) characterize and quantify model uncertainty, and (6) recommend status determination. Workshop panelists will document their findings and recommendations in an Assessment Workshop Report that will be made available to the public.

SEDAR 24 Assessment Webinar 4 Schedule:

August 24, 2010: 2 p.m. - 4 p.m.

Assessment panelists will review the Assessment Report.

SEDAR 24 Review Workshop Schedule:

October 12, 2010: 1 p.m. - 8 p.m.; October 13, 2010: 8 a.m. - 8 p.m.; October 14, 2010: 8 a.m. - 4 p.m.

The Review Workshop is an independent peer review of the assessments developed during the SEDAR 24 Data Workshop and Assessment Process. Workshop Panelists will review the assessment and document their comments and recommendations in a Peer Review Evaluation Report.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 5 business days prior to each workshop.

Dated: July 7, 2010.
Tracey L. Thompson,
Acting Director, Office of Sustainable Fisheries, National Marine Fisheries Service.

[FR Doc. 2010-16967 Filed 7-12-10; 8:45 am]

BILLING CODE 3510-22-S